NUCLEAR REGULATORY COMMISSION

[Docket No. 52-049; NRC-2020-0088]

Oklo Power LLC

AGENCY: Nuclear Regulatory Commission.

ACTION: Combined license application; acceptance for docketing.

SUMMARY: The U.S. Nuclear Regulatory Commission (NRC) staff accepts and dockets an application for a combined license (COL) submitted by Oklo Power LLC (Oklo), a subsidiary of Oklo, Inc. dated March 11, 2020. The reactor is to be identified as the Aurora. The Docket Number established for this application is 52-049.

DATES: This action became effective on June 5, 2020.

ADDRESSES: Please refer to Docket ID NRC-2020-0088 when contacting the NRC about the availability of information regarding this document. You may obtain publicly-available information related to this document using any of the following methods:

• Federal Rulemaking Website: Go to https://www.regulations.gov and search for Docket ID NRC-2020-0088. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The letter of acceptance is available in ADAMS under Accession No. ML20149K616.

• NRC's Public Website: The combined license application is available under the NRC's Aurora—Oklo Application public website at https://www.nrc.gov/reactors/new-reactors/advanced/oklo.html.

FOR FURTHER INFORMATION CONTACT: Jan Mazza, Office of Nuclear Reactor Regulation, U.S. Nuclear Regulatory Commission, Washington, DC 20555-0001; telephone: 301-415-0498; email: Jan.Mazza@nrc.gov.

SUPPLEMENTARY INFORMATION:

I. Discussion

On March 11, 2020, Oklo filed with the NRC pursuant to Section 103 of the Atomic Energy Act and part 52 of title 10 of the Code of Federal Regulations (10 CFR), “Licenses, Certifications, and Approvals for Nuclear Power Plants,” an application for a combined license for one micro-reactor at the Idaho National Laboratory located in Idaho. The reactor is to be identified as the Aurora.

A notice of receipt and availability of this application was previously published in the Federal Register on April 3, 2020 (85 FR 19032).

The NRC staff has determined that Oklo has submitted information in accordance with 10 CFR part 2, “Agency Rules of Practice and Procedure,” and 10 CFR part 52 that is acceptable for docketing. The Docket Number established for this application is 52-049.

The NRC staff will perform a detailed technical review of the application. Docketing of the application does not preclude the NRC from requesting additional information from the applicant as the review proceeds, nor does it predict whether the Commission will grant or deny the application. The Commission will conduct a hearing in accordance with subpart L, “Informal Hearing Procedures for NRC Adjudications,” of 10 CFR part 2 and will receive a report on the COL application from the Advisory Committee on Reactors Safeguards in accordance with 10 CFR 52.87, “Referral to the Advisory Committee on Reactors Safeguards (ACRS).” If the Commission finds that the COL application meets the applicable standards of the Atomic Energy Act and the Commission's regulations, and that required notifications to other agencies and bodies have been made, the Commission will issue a COL, in the form and containing conditions and limitations that the Commission finds appropriate and necessary.

Finally, the Commission will announce in a future Federal Register notice of hearing and opportunity to petition for leave to intervene as required by 10 CFR 52.85.

Dated: June 10, 2020.
For the Nuclear Regulatory Commission.
Jan M. Mazza,
Project Manager, Advanced Reactors Licensing Branch, Division of Advanced Reactors and Non-Power Production and Utilization Facilities, Office of Nuclear Reactor Regulation.

[FR Doc. 2020-12903 Filed 6-15-20; 8:45 am]

BILLING CODE 7590-01-P